UNITED STATES INSTITUTE OF PEACE

Sunshine Act Meeting

AGENCY: United States Institute of Peace.

DATE/TIME: Thursday, January 18, 2001, 9:00 a.m.-5:30 p.m.

LOCATION: 1200 17th Street, NW., Suite 200, Washington, DC 20036.

STATUS: Open Session—Portions may be closed pursuant to Subsection (c) of Section 552(b) of Title 5, United States Code, as provided in subsection 1706(h)(3) of the United States Institute of Peace Act, Public Law 98-525.

AGENDA: January 2000 Board Meeting; Approval of Minutes by the Ninety-Seventh Meeting (November 16, 2000) of the Board of Directors; Chairman's Report; President's Report; Committee Reports; Review of Unsolicited Grant Applications; Other General Issues.

CONTACT: Dr. Sheryl Brown, Director, Office of Communications, Telephone: (202) 457-1700.

Dated: January 2, 2001.
Charles E. Nelson,
Vice President for Management and Finance, United States Institute of Peace.

[FR Doc. 01-327 Filed 1-2-01; 11:52 am]

BILLING CODE 6820-AR-M